DEPARTMENT OF COMMERCE

International Trade Administration

[A-570-851]

Certain Preserved Mushrooms From the People's Republic of China: Initiation of Antidumping Duty New Shipper Review

AGENCY: Enforcement and Compliance, International Trade Administration, Department of Commerce.

DATES: Effective Date: October 8, 2015.

SUMMARY: The Department of Commerce (the Department) is initiating a new shipper review of the antidumping duty order on certain preserved mushrooms (mushrooms) from the People's Republic of China (PRC) involving Linyi Yuqiao International Trade Co., Ltd. (Yuqiao). The period of review (POR) of this new shipper review is February 1, 2015, through July 31, 2015.

FOR FURTHER INFORMATION CONTACT: Michael J. Heaney or Robert James, AD/CVD Operations, Office VI, Enforcement and Compliance, International Trade Administration, U.S. Department of Commerce, 14th Street and Constitution Avenue NW., Washington, DC 20230, telephone: (202) 482-4475 or (202) 482-0649, respectively.

SUPPLEMENTARY INFORMATION:

Background

On February 19, 1999, the Department published the antidumping duty order on mushrooms from the PRC.¹ Pursuant to section 751(a)(2)(B)(i) of the Tariff Act of 1930, as amended (the Act), we received a timely request for a new shipper review of the order from Yuqiao.² In its request for review, Yuqiao identified itself as the exporter of the subject merchandise, while listing the producer as Linyi City Kangfa Foodstuff Drinkable Co., Ltd. (Kangfa).

¹ See Notice of Amendment of Final Determination of Sales at Less Than Fair Value and Antidumping Duty Order: Certain Preserved Mushrooms From the People's Republic of China, 64 FR 8308 (February 19, 1999).

² See Letter from Yuqiao to Secretary of Commerce, dated August 28, 2015 (Yuqiao Request).

Pursuant to the requirements set forth in section 751(a)(2)(B)(i) of the Act and 19 CFR 351.214(b)(2), Yuqiao certified that: (1) It did not export subject merchandise to the United States during the period of investigation (POI) (see section 751(a)(2)(B)(i)(I) of the Act and 19 CFR 351.214(b)(2)(ii)(A)); (2) since the initiation of the investigation it has never been affiliated with any exporter or producer that exported subject merchandise to the United States during the POI, including those companies not individually examined during the investigation (see section 751(a)(2)(B)(i)(II) of the Act and 19 CFR 351.214(b)(2)(iii)(A)); and (3) its export activities are not controlled by the central government of the PRC (see 19 CFR 351.214(b)(2)(iii)(B)). Kangfa also certified that: (1) It did not export the subject merchandise to the United States during the POI (see 19 CFR 351.214(b)(2)(ii)(B)); and (2) since the initiation of the investigation, Kangfa has never been affiliated with any exporter or producer that exported subject merchandise during the POI, including those companies not individually examined during the investigation.³

³ Id. at Attachment 1.

Moreover, in accordance with 19 CFR 351.214(b)(2)(iv), Yuqiao submitted documentation establishing the following: (1) The date on which it first entered merchandise into the United States; (2) the volume of its first shipment and a statement that it had no subsequent shipments; and (3) the date of its first sale to an unaffiliated customer in the United States.⁴

⁴ Id. at Attachment 2.

Finally, the Department conducted a U.S. Customs and Border Protection (CBP) database query and confirmed the price, quantity, and date of entry of the sale at issue.⁵ Notably, the CBP data indicate that Yuqiao's sale and entry of subject merchandise occurred during the POR and the entry was suspended for antidumping duties.

⁵ Id.; see also Memorandum to the File from the Case Analyst, “Certain Preserved Mushrooms from the People's Republic of China: Customs Data for NSR”, dated September 14, 2015, and herein incorporated by reference.

Period of Review

Pursuant to 19 CFR 351.214(g)(1)(i)(B), the POR for new shipper reviews initiated in the month immediately following the semiannual anniversary month will be the six month period immediately preceding the semiannual anniversary month. Therefore, because the semiannual anniversary month of this order is August, the POR for this new shipper review is February 1, 2015, through July 31, 2015.

Initiation of New Shipper Review

Pursuant to section 751(a)(2)(B) of the Act and 19 CFR 351.214(b), the Department finds that Yuqiao's request meets the statutory and regulatory requirements for initiation of a new shipper review.⁶ Accordingly, the Department is initiating a new shipper review of the antidumping duty order on mushrooms from the PRC for subject merchandise produced by Kangfa and exported by Yuqaio. Absent a determination that the case is extraordinarily complicated, the Department intends to issue the preliminary results of this review within 180 days after the date on which this review is initiated and the final results within 90 days after the date on which the Department issues the preliminary results.⁷

⁶ See Memorandum from Michael J. Heaney to the File through Scot T. Fullerton entitled, “Initiation of Antidumping Duty New Shipper Review: Certain Preserved Mushrooms from the People's Republic of China (A-570-851),” dated September xx, 2015.

⁷ See section 751(a)(2)(B)(iv) of the Act and 19 CFR 351.214(h)(i).

In cases involving non-market economies, the Department requires that a company seeking to establish eligibility for an antidumping duty rate separate from the country-wide rate provide evidence of de jure and de facto absence of government control over the company's export activities.⁸ Accordingly, the Department will issue a questionnaire to Yuqiao that will include a separate rates section. This review may proceed if the response provides sufficient indication that Yuqiao is not subject to either de jure or de facto government control with respect to its exports of mushrooms.

⁸ See, e.g., Wooden Bedroom Furniture from the People's Republic of China: Preliminary Results of Antidumping Duty New Shipper Reviews, 75 FR 72794, 72796 (November 26, 2010), unchanged in Wooden Bedroom Furniture from the People's Republic of China: Final Results of Antidumping Duty New Shipper Reviews, 76 FR 9747 (February 22, 2011).

The Department will instruct CBP to allow (at the option of the importer) the posting, until the completion of the review, of a bond or security in lieu of a cash deposit for each entry of subject merchandise exported by Yuqiao and produced by Kangfa in accordance with section 751(a)(2)(B)(iii) of the Act and 19 CFR 351.214(e). Because Kangfa certified that the sales which form the basis for its request were produced by Kangfa, the Department will instruct CBP to permit the use of a bond only for entries of subject merchandise produced by Kangfa and exported by Yuqiao.

To assist in its analysis of the bona fides of Yuqiao's sales, upon initiation of this new shipper review, the Department will require the company to submit on an ongoing basis complete transaction information concerning any sales of subject merchandise to the United States that were made subsequent to the POR.

Interested parties requiring access to business proprietary information in this new shipper review should submit applications for disclosure under administrative protective order, in accordance with 19 CFR 351.305 and 351.306.

This initiation and notice are published in accordance with section 751(a)(2)(B) of the Act, 19 CFR 351.214, and 19 CFR 351.221(c)(1)(i).

Dated: October 1, 2015.
Christian Marsh,
Deputy Assistant Secretary for Antidumping and Countervailing Duty Operations.

[FR Doc. 2015-25704 Filed 10-7-15; 8:45 am]

BILLING CODE 3510-DS-P